ENVIRONMENTAL PROTECTION AGENCY

[OPP-34171D; FRL-6801-9]

Ethyl Parathion; Notice of Use Cancellations

AGENCY: Environmental Protection Agency (EPA).

ACTION: Notice.

SUMMARY: This notice announces EPA's order of product and use cancellations, as requested by Cheminova, Inc., Universal Cooperatives, Inc., Wilbur-Ellis, Co., Amvac Chemical Co., Helena Chemical, Agriliance LLC and Micro-Flo Co., for their registrations containing O,O-diethyl-O-p-nitrophenyl thiophosphate, or ethyl parathion, pursuant to section 6(f) of the Federal Insecticide, Fungicide, and Rodenticide Act (FIFRA). This cancellation order follows up a May 2, 2001, notice of receipt of requests to cancel ethyl parathion product registrations by certain dates and to immediately terminate the use of ethyl parathion on corn grown for seed. EPA has considered the comments received in response to the May 2, 2001 notice prior to its issuance of this cancellation order. Any distribution, sale, or use of the products subject to this cancellation order is only permitted in accordance with the terms of the existing stocks provisions of this cancellation order.

DATES: The cancellations are effective September 13, 2001.

FOR FURTHER INFORMATION CONTACT: Laura Parsons, Special Review and Reregistration Division (7508C), Office of Pesticide Programs, Environmental Protection Agency, 1200 Pennsylvania Ave., NW., Washington, DC 20460; telephone number: (703) 305-5776; fax number: (703) 308-7042; e-mail address: parsons.laura@epa.gov.

SUPPLEMENTARY INFORMATION:

I. General Information

A. Does this Action Apply to Me?

This action is directed to the public in general. You may be potentially affected by this action if you manufacture, sell, distribute, or use ethyl parathion products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the risk assessment and Reregistration Eligibility Decision for ethyl parathion, go to the homepage for the Office of Pesticide Programs, or go directly to http://www.epa.gov/pesticides/reregistration/ethyl_parathion.

2. In person. The Agency has established an official record for this action under docket control number OPP-34171D. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Amend Registrations to Delete Uses

A. Background

Ethyl parathion is an organophosphate insecticide/miticide currently registered for use on alfalfa, barley, corn, cotton, canola, sorghum, soybean, sunflower, and wheat crops. In 1991, EPA and the registrants reached an agreement that limited ethyl parathion use to these nine current crop sites, and restricted application and postapplication practices to mitigate extreme acute toxicity risks to workers. As a result, to protect workers, ethyl parathion may only be handled by trained certified applicators, using closed mixing and loading systems, may only be applied aerially, and crops treated with the pesticide may only be harvested mechanically.

Even with the post-1991 use restrictions, EPA's revised risk assessment completed in September 1999, showed high levels of worker and ecological risk from legal uses of ethyl parathion. There were also several unfulfilled data requirements. After viewing the revised risk assessment and outstanding data requirements, Cheminova, Inc.; Cheminova, A/S, and EPA signed a memorandum of agreement (MOA) effective October 10, 2000. In accordance with this MOA, Cheminova, Inc., has requested to amend their end-use product registrations to immediately terminate the use on corn grown for seed which can result in higher exposures to workers. Further, Cheminova, A/S, the only registrant with an ethyl parathion manufacturing-use product registration, has requested to immediately cancel that registration. Also, these registrants have requested voluntary cancellation of all their ethyl parathion end-use product registrations effective as of December 31, 2002. Most other companies holding registrations for ethyl parathion products have also written letters to the EPA requesting voluntary cancellation of all their ethyl parathion products effective immediately.

EPA announced these registration cancellation and amendment requests in a Federal Register notice (66 FR 21964; May 2, 2001) (FRL-6770-9) and asked for public comments. In response, one comment was received from the Oklahoma Cooperative Extension Service, requesting that the last legal use date be extended from October 31, 2003 to December 31, 2003. This comment stated that this extension would provide extra time for use and that it would be easier for users to identify the end of use with the end of the calendar year.

October 31, 2003 was chosen as the last date for use of ethyl parathion after consultations with the registrants to estimate when stocks would be depleted. According to historical use information, there is little ethyl parathion use in November and December, consequently extending the date would be of little practical value. Additionally, it was expected that little or no existing stocks would be available by this date. EPA acknowledges that there is merit in users identifying with the end of the year. However, the October 31, 2003 date has been widely publicized; changing the date may generate more confusion than using the originally published date.

B. Requests for Voluntary Cancellation

Registrants have requested voluntary cancellation of all their ethyl parathion registrations either by signing a MOA or by submitting a letter to the Agency. Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless the registrants request a waiver of the comment period, or the Administrator determines that continued use of the pesticide would pose an unreasonable adverse effect on the environment. The registrant has requested that EPA waive the 180-day comment period. EPA granted the registrants' request to waive the 180-day comment period and provided a 30-day public comment period before taking action on the requested cancellations. Given the potential worker and ecological risk that ethyl parathion use poses, EPA has decided to issue a cancellation order in this notice granting the requested cancellations. The specific cancellation requests are set forth below.

1. Requests for termination of use on corn grown for seed. In accordance with the MOA, Cheminova, Inc., has requested that its end-use product registrations be amended to immediately terminate the use on corn grown for seed. The requested use termination of the end-use products identified in Table 1 is granted by EPA's cancellation order in this notice.

Table 1. — End-Use Product Registration Deleting Use on Corn Grown for Seed.
Company | Registration No. | Product Name
Cheminova, Inc. | 67760-37 | Parathion 4EC
| 67760-38 | Parathion 8EC
| 67760-39 | Ethyl-Methyl Parathion 6-3 EC

2. Requests for voluntary cancellation of manufacturing-use product registrations. Pursuant to the Agreement and FIFRA section 6(f)(1)(A), Cheminova, A/S, the only registrant with a manufacturing-use product registration, has submitted a request for voluntary cancellation of registration for its one and only ethyl parathion manufacturing-use product. This cancellation request is granted by EPA's cancellation order in this notice. The registration for which cancellation was requested is identified in the following Table 2.

Table 2. — Manufacturing-Use Product Registration Cancellation Requests.
Company | Registration No. | Product Name
Cheminova, A/S | 4787-17 | Parathion Technical

3. Requests for voluntary cancellation of end-use product registrations. Several registrants have submitted letters of requests for immediate voluntary cancellation of their registrations for end-use pesticide products containing ethyl parathion. The registrants who signed the MOA requested for cancellation of their ethyl parathion end-use product registrations effective as of December 31, 2002. These cancellation requests are granted by EPA's cancellation order in this notice. The end-use product registrations for which cancellation was requested by MOA are identified in the following Table 3, and end-use product registrations for which cancellation was requested by separate letters of requests are identified in the following Table 4.

Table 3. — End-Use Product Registration Cancellation Requests by MOA.
Company | Registration No. | Product Name
Cheminova, Inc. | 67760-37 | Parathion 4EC
| 67760-38 | Parathion 8EC
| 67760-39 | Ethyl-Methyl Parathion 6-3 EC

Table 4. — End-Use Product Registration Cancellation Requests by Letter.
Company | Registration No. | Product Name
Universal Cooperatives, Inc. | 1386-646 | Red Panther Parathion 8
Wilbur Ellis, Co. | 2935-481 | Parathion 4 Spray
| 2935-483 | Parathion 8 Aqua
Amvac, Chemical Co. | 5481-435 | Parathion 8
| 5481-436 | Parathion 4E
Helena Chemical | 5905-513 | Parathion 4E Emulsifiable Insecticide Concentrate
| 5905-514 | Parathion 8E Emulsifiable Insecticide Concentrate
| 5905-515 | Parathion - Methyl Parathion 6-3 Insecticide Concentrate
| 5905-516 | Helena Parathion 8 Flowable Insecticide Concentrate
Agriliance, LLC | 9779-322 | Parathion 8
Micro-Flo, Co. | 51036-180 | Micro Flo Co./Parathion 8E

III. Potential Actions Relative to Remaining End-Use Product Registrations

EPA is contemplating various enforcement and regulatory actions with respect to the remaining end-use product registrations after EPA grants the voluntary cancellation requests set forth in Unit II of this notice. These remaining registrations cite the manufacturing-use product listed in Table 2 as the source of active ingredient in these products. Because EPA will limit the sale, distribution and use of the existing stocks of this source with this order canceling its registration, production of these remaining end-use products may be illegal under the cancellation order or the current registrations for these end-use products. Accordingly, EPA may initiate appropriate enforcement actions to ensure that the remaining end-use products are not being produced illegally after the source is canceled. As shown in the Agency's revised risk assessment dated September 1999, EPA is concerned with the risks associated with the use of pesticide products containing ethyl parathion. Because of these concerns, EPA is contemplating initiating a proceeding to cancel these remaining registrations. The remaining end-use product registrations that may be subject to enforcement and regulatory actions discussed in this section are identified in the following Table 5.

Table 5. — End-Use Product Registrations Potentially Subject to Involuntary Cancellation.
Company | Registration No. | Product Name
Drexel Chemical Co. | 19713-322 | Seis—Tres 6-3
| 19713-323 | Drexel Parathion 8
| 19713-324 | Ida Seis—Tres 6-3
| 19713-325 | Drexel Parathion 4EC

IV. Cancellation Order

Pursuant to FIFRA section 6(f)(1)(A), EPA hereby grants the requested voluntary product and use cancellations of the registrations ethyl parathion products as described in Unit II of this notice. Accordingly, any distribution, sale, or use of existing stocks in a manner inconsistent with the terms of this Order or the Existing Stock Provisions in Unit V of this notice will be considered a violation of section 12(a)(2)(K) of FIFRA and/or section 12(a)(1)(A) of FIFRA.

V. Existing Stocks Provisions

Pursuant to section 6(f) of FIFRA, EPA is granting the requests for voluntary product and use cancellations. For purposes of the cancellation order, the term “existing stocks” will be defined, pursuant to EPA's existing stocks policy published in the Federal Register at (56 FR 29362, June 26, 1991) (FRL-3846-4), as those stocks of a registered pesticide product which are currently in the United States and which have been packaged, labeled, and released for shipment prior to the effective date of the amendment or cancellation. Any distribution, sale, or use of existing stocks after the effective date of the cancellation order that is not consistent with the terms of that order will be considered a violation of section 12(a)(2)(K) and/or 12(a)(1)(A) of FIFRA.

A. Sale, Distribution and Use of Manufacturing-Use Products Imported into the United States prior to July 7, 2000

All sale, distribution, and use of existing stocks of manufacturing-use products imported into the United States prior to July 7, 2000 will not be lawful as of December 31, 2002, except for the purposes of shipping such stocks for export consistent with section 17 of FIFRA or for proper disposal.

B. Sale and Distribution by Registrants of End-Use Products Subject to the MOA

All sale and distribution by the registrants of existing stocks of end-use products identified in Table 3 will not be lawful under FIFRA as of the effective date of their cancellations (i.e., December 31, 2002), except for the purposes of shipping such stocks for export consistent with the requirements of section 17 of FIFRA, or for proper disposal.

C. Sale and Distribution by Registrants of End-Use Products not Subject to the MOA

All sale and distribution by the registrants of existing stocks of end-use products identified in Table 4 are not lawful under FIFRA as of the effective date of this cancellation order, except for the purposes of shipping such stocks for export consistent with the requirements of section 17 of FIFRA, or for proper disposal.

D. Sale and Distribution of End-Use Products by Other Persons

All sale and distribution by persons other than the registrants of existing stocks of end-use products identified in Tables 3 and 4 will not be lawful under FIFRA as of August 31, 2003, except for the purposes of shipping such stocks for export consistent with the requirements of section 17 of FIFRA, or for proper disposal.

E. Use of End-Use Products

All use of existing stocks of end-use products identified in Tables 3 and 4 will not be lawful under FIFRA as of October 31, 2003.

List of Subjects

Environmental protection, Memorandum of Agreement, Pesticides and pests.

Dated: August 31, 2001.
Lois A. Rossi,
Director, Special Review and Reregistration Division, Office of Pesticide Programs

[FR Doc. 01-23003 Filed 9-12-01; 8:45 a.m.]

BILLING CODE 6560-50-S